DEPARTMENT OF ENERGY

Federal Energy Regulatory Commission

[Docket No. PF04-8-000]

Seafarer U.S. Pipeline System, Inc.; Notice of Intent To Prepare an Environmental Impact Statement for the Proposed Seafarer U.S. Pipeline System Project, Request for Comments on Environmental Issues, and Notice of Public Scoping Meeting

June 30, 2004.

The staff of the Federal Energy Regulatory Commission (FERC or Commission) will prepare an environmental impact statement (EIS) that will discuss the environmental impacts of the Seafarer U.S. Pipeline System Project proposed by Seafarer U.S. Pipeline System, Inc. (hereafter referred to as Seafarer). This notice explains the scoping process we¹ will use to gather input from the public and interested agencies on the project. Your input will help us determine the issues that need to be evaluated in the EIS. Please note that the scoping period will close on August 16, 2004.

¹ “We,” and “our” refer to the environmental staff of the Office of Energy Projects.

Comments may be submitted in written form or verbally. Further details on how to submit written comments are provided in the public participation section of this notice. In lieu of sending written comments, we invite you to attend the public scoping meeting we have scheduled as follows:

Thursday, July 22, 2004, 7 p.m., Seafarer U.S. Pipeline System Project, Riviera Beach Council Chambers, 600 West Blue Heron Boulevard, Riviera Beach, FL 33404, Telephone: (561) 845-4010

Additionally, representatives of Seafarer and Commission staff will be visiting some project areas on the morning of Thursday, July 22, 2004. Anyone interested in participating in the site visit may meet in the parking lot of Phil Foster Memorial Park at 9 a.m. The park is located at 900 East Blue Heron Boulevard in Riviera Beach. Individuals must provide their own transportation.

The FERC will be the lead federal agency in the preparation of the EIS. The document will satisfy the requirements of the National Environmental Policy Act (NEPA).

This notice is being sent to affected landowners; federal, state, and local government agencies; elected officials; environmental and public interest groups; Native American tribes; other interested parties; and local libraries and newspapers. We encourage government representatives to notify their constituents of this planned project and encourage them to comment on their areas of concern.

Summary of the Proposed Project

Seafarer proposes to construct and operate a natural gas pipeline to provide a new supply of competitively priced natural gas to south Florida. Overall, the proposed pipeline would extend approximately 127.5 miles from a proposed liquefied natural gas (LNG) facility on Grand Bahama Island to an interconnect site with the existing Florida Gas Transmission (FGT) pipeline system in Palm Beach County, Florida. The portion of the project under FERC jurisdiction would extend from the United States/Bahamian Exclusive Economic Zone (EEZ) boundary, located approximately 35 miles off the Florida coast, to the terminus at the FGT interconnect site. The proposed pipeline would make landfall on Singer Island near Riviera Beach, FL. The onshore portion would extend approximately 6 miles from landfall to the FGT interconnect site. The general location of the proposed pipeline is shown in Figure 1.² The portion of the Seafarer U.S. Pipeline System Project under FERC jurisdiction would include:

² The figure referenced in this notice is not being printed in the Federal Register. Copies of the figure were sent to all those receiving this notice in the mail. Requests for detailed maps of the proposed facilities should be made directly to Seafarer.

• 40.6 miles of 26-inch-diameter natural gas pipeline; and

• Aboveground facilities including four mainline valves (one offshore and three onshore), a pressure reduction station, a meter station, and a side valve at the FGT interconnect site.

Seafarer proposes to have the project constructed and operational by April 2008. The project would deliver up to 750 million cubic feet (about 800,000 dekatherms) of natural gas per day to Sailfish Natural Gas, Ltd., an affiliate of FPL Group Resources, via the FGT pipeline system.

The EIS Process

The FERC will use the EIS to consider the environmental impact that could result if it issues Seafarer project authorizations under sections 3 and 7 of the Natural Gas Act.

This notice formally announces our preparation of the EIS and the beginning of the process referred to as “scoping.” We are soliciting input from the public and interested agencies to help us focus the analysis in the EIS on the potentially significant environmental issues related to the proposed action.

Our independent analysis of the issues will be included in a draft EIS. The draft EIS will be mailed to federal, state, and local government agencies; elected officials; environmental and public interest groups; Native American tribes; affected landowners; other interested parties; local libraries and newspapers; and the FERC's official service list for this proceeding. A 45-day comment period will be allotted for review of the draft EIS. We will consider all comments on the draft EIS and revise the document, as necessary, before issuing a final EIS.

Although no formal application has been filed, the FERC staff has already initiated its NEPA review under its NEPA Pre-filing Process. The purpose of the Pre-filing Process is to encourage the early involvement of interested stakeholders and to identify and resolve issues before an application is filed with the FERC.

With this notice, we are asking federal, state, and local agencies with jurisdiction and/or special expertise with respect to environmental issues to formally cooperate with us in the preparation of the EIS. These agencies may choose to participate once they have evaluated the proposal relative to their responsibilities. Agencies that would like to request cooperating status should follow the instructions for filing comments provided under the Public Participation section of this Notice.

Currently Identified Environmental Issues

The EIS will discuss impacts that could occur as a result of the construction and operation of the proposed project. We have already identified several issues that we think deserve attention based on a preliminary review of the project site and the facility information provided by Seafarer. This preliminary list of issues may be changed based on your comments and our analysis.

• Potential impacts to the nearshore marine environment from construction activities including the possibility of the unsuccessful implementation of HDD drilling beneath marine and nearshore habitats;

• Potential impacts to marine and estuarine water quality associated with construction activities;

• Potential impacts on wetlands and submerged aquatic vegetation;

• Potential impacts on coral and other marine life from pipeline construction activities;

• Potential impacts on essential fish habitat and state and/or federally-listed threatened and endangered species along the pipeline route;

• Consistency with coastal zone management guidelines;

• Potential impacts and potential benefits of construction workforce on local housing, infrastructure, public services, and economy;

• Potential impacts of increased boat traffic associated with construction in nearshore marine waters and the Intracoastal Waterway;

• Assessment of potential cultural resources along the pipeline route;

• Hazards associated with the transport of natural gas;

• Alternative alignments for the onshore and offshore pipeline route; and

• Assessment of the effect of the proposed project when combined with other past, present, or reasonably foreseeable future actions in the project area, including other recently proposed natural gas pipelines that would extend between the Bahamas and south Florida.

Public Participation

You can make a difference by providing us with your specific comments or concerns about the proposal. Your comments should focus on the potential environmental effects, reasonable alternatives (including alternative facilities sites and pipeline routes), and measures to avoid or lessen environmental impact. The more specific your comments, the more useful they will be. To ensure that your comments are timely and properly recorded, please mail your comments so that they will be received in Washington, DC, on or before August 16, 2004, and carefully follow these instructions:

• Send an original and two copies of your letter to: Magalie R. Salas, Secretary, Federal Energy Regulatory Commission, 888 First St., NE., Room 1A, Washington, DC 20426;

• Label one copy of your comments for the attention of Gas Branch 3, DG2E;

• Reference Docket No. PF04-8-000 on the original and both copies.

The public scoping meeting to be held on July 22, 2004, at the Riviera Beach Council Chambers, is designed to provide another opportunity to offer comments on the proposed project. Interested groups and individuals are encouraged to attend the meeting and to present comments on the environmental issues they believe should be addressed in the EIS. A transcript of the meeting will be generated so that your comments will be accurately recorded.

We will include all comments that we receive within a reasonable time frame in our environmental analysis of this project. To expedite our receipt and consideration of your comments, the Commission strongly encourages electronic submission of any comments on this project. See 18 CFR 385.2001(a)(1)(iii) and the instructions on the Commission's Web site at http://www.ferc.gov under the “e-Filing” link and the link to the User's Guide. Before you can submit comments you will need to create a free account, which can be created by clicking on “Login to File” and then “New User Account.” You will be asked to select the type of submission you are making. This submission is considered a “Comment on Filing.”

If you do not want to send comments at this time but still want to remain on our mailing list, please return the attached Information Request. If you do not return the Information Request, you will be removed from the project mailing list.

Once Seafarer formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Availability of Additional Information

Additional information about the project is available from the Commission's Office of External Affairs, at 1-866-208-FERC (3372) or on the FERC Internet website (www.ferc.gov) using the “eLibrary link.” Click on the eLibrary link, select “General Search” and enter the project docket number excluding the last three digits (i.e., PF04-8) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Seafarer has established an Internet Web site for this project at http://www.seafarer.us/. The Web site includes a description of the project, a map of the proposed pipeline route, and answers to frequently asked questions. You can also request additional information or provide comments directly to Seafarer at (866) 683-5587.

Magalie R. Salas,
Secretary.

[FR Doc. E4-1497 Filed 7-7-04; 8:45 am]

BILLING CODE 6717-01-P